DEPARTMENT OF AGRICULTURE

Submission for OMB Review; Comment Request

August 16, 2019.

The Department of Agriculture has submitted the following information collection requirement(s) to Office of Management and Budget (OMB) for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by September 20, 2019 will be considered. Written comments should be addressed to: Desk Officer for Agriculture, Office of Information and Regulatory Affairs, Office of Management and Budget (OMB), New Executive Office Building, 725—17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Utilities Service

Title: Water and Waste Disposal Programs Guaranteed Loans.

OMB Control Number: 0572-0122.

Summary of Collection: The Rural Utilities Service (RUS) is authorized by Section 306 of the Consolidated Farm and Rural Development Act (7 U.S.C. 1926) to make loans to public agencies, nonprofit corporations, and Indian tribes for the development of water and waste disposal facilities primarily servicing rural residents. The Waste and Water Disposal Programs (WW) of RUS provide insured loan and grant funds through the WW program to finance many types of projects varying in size and complexity. The Waste and Water Disposal Guaranteed Program is implemented through 7 CFR 1779. The guaranteed loan program encourages lender participation and provides specific guidance in the processing and servicing of guaranteed WW loans.

Need and Use of the Information: Rural Development's field offices will collect information from applicants/borrowers, lenders, and consultants to determine eligibility, project feasibility and to ensure borrowers operate on a sound basis and use loan funds for authorized purposes. There are agency forms required as well as other requirements that involve certifications from the borrower, lenders, and other parties. Failure to collect proper information could result in improper determinations of eligibility, improper use of funds and or unsound loans.

Description of Respondents: Business or other for-profit; Not-for-profit institutions.

Number of Respondents: 10.

Frequency of Responses: Reporting: On occasion.

Total Burden Hours: 2,782.

Kimble Brown,
Departmental Information Collection Clearance Officer.

[FR Doc. 2019-18022 Filed 8-20-19; 8:45 am]

BILLING CODE 3410-15-P